GOVERNMENT ACCOUNTABILITY OFFICE

Publication of Volume II of GAO's Principles of Federal Appropriations

AGENCY: Government Accountability Office.

ACTION: Notice of publication.

SUMMARY: The third edition of Volume II of GAO's Principles of Federal Appropriations Law is being prepared for publication by the Government Printing Office (GPO). Government departments, agencies, and other federal organizations that normally require more than one copy have been given an opportunity to request them through their agencies' account representatives at pre-publication rate. This notice is intended for other parties who might be interested in purchasing the book.

SUPPLEMENTARY INFORMATION: The Government Accountability Office (GAO) will shortly publish Volume II of Principles of Federal Appropriations Law, third edition—also known as “The Red Book” This publication is part of a multi-volume set intended to present a basic reference covering those areas of law in which the Comptroller General renders decisions. Our approach is to lay a foundation with text discussion, using specific legal authorities to illustrate the principles discussed, their application, and exceptions. These authorities include GAO decisions and opinions, judicial decisions, statutory provisions, and other relevant sources.

GAO will provide copies of this volume to the heads of Federal agencies, and agencies have already been given an opportunity to place advance (rider) orders for additional copies of this volume with their account representatives at the Government Printing Office (GPO).

This notice is intended to tell the general public that they will be able to place pre-issue orders for this publication through GPO's new online bookstore, at http://bookstore.gpo.gov/collections/gao_appropriation.jsp. Otherwise, we expect this publication will be available for purchase from the Superintendent of Documents, United States Government Printing Office, P.O. Box 371954, Pittsburgh, PA 15250-7954, by April 2006. The price is $69.

Orders for Volume II should specify GPO Stock No. 020-000-00287-5 or the ISBN 0-16-0075602-2. Through periodic training courses on federal appropriations law, GAO believes that this publication might be useful in particular to law offices, to accounting firms, to the financial, budget, or accounting officers of government contractors, to university and state law libraries, to corporate chief financial officers, and to people who follow Federal financial management, contracts, grants, and loans.

As with the second edition of Principles, we are publishing the third edition in loose-leaf format but will include a CD-ROM as well. Volume II covers chapters 6 through 11: availability of appropriations, amount; obligation of appropriations; continuing resolutions; liability and relief of accountable officers; Federal assistance, grants and cooperative agreements; and Federal assistance, guaranteed and insured loans. We plan three volumes with annual updates. The updates will only be published electronically. Users should retain copies of the remaining volumes of the second edition until each volume is revised. Volume III of the second edition addresses functions that the GAO Act of 1996 transferred to the Executive Branch and will not be updated. The first annual update of Volume I is currently available online at http://www.gao.gov/legal.htm.

Authority: 31 U.S.C. 712, 717, 719, 3511, 3526-29.

Susan Poling,
Managing Associate General Counsel, Government Accountability Office.

[FR Doc. 06-2235 Filed 3-8-06; 8:45 am]

BILLING CODE 1610-02-M